DEPARTMENT OF HOUSING AND URBAN DEVELOPMENT

[Docket No. FR-4665-N-04]

First Meeting of the Manufactured Housing Consensus Committee

AGENCY: Office of the Assistant Secretary for Housing—Federal Housing Commissioner, HUD.

ACTION: Notice of meeting of the Manufactured Housing Consensus Committee.

SUMMARY: This notice announces the first meeting of the Manufactured Housing Consensus Committee (the Committee) and sets forth the proposed agenda for the meeting. The meeting is open to the public and the site is accessible to individuals with disabilities.

DATES: Meetings will be held on Tuesday, August 13, 2002, from 9 a.m. to 4 p.m., Wednesday, August 14, 2002 from 9 a.m. to 4 p.m., and Thursday, August 15, 2002, from 9 a.m. to 12 p.m.

ADDRESSES: These meetings will be held at the Marriott DC at Metro Center, 775 12th Street, NW., Washington, DC 20005, telephone (202) 737-2200.

FOR FURTHER INFORMATION CONTACT: William W. Matchneer III, Administrator, Manufactured Housing Program, Office of Consumer and Regulatory Affairs, Department of Housing and Urban Development, 451 7th Street SW., Washington, DC 20410, telephone (202) 708-6409 (this is not a toll-free number). Persons who have difficulty hearing or speaking may access this number via TTY by calling the toll-free Federal Information Relay Service at (800) 877-8339.

SUPPLEMENTARY INFORMATION: Notice of this meeting is provided in accordance with section 10(a)(2) of the Federal Advisory Committee Act (5 U.S.C. App.2) and 41 CFR 102-3.150. The Manufactured Housing Consensus Committee was established under section 604(a)(3) of the National Manufactured Housing Construction and Safety Standards Act of 1974, 42 U.S.C. 4503(a)(3). The Consensus Committee is charged with providing recommendations to the Secretary to adopt, revise, and interpret manufactured housing construction and safety standards and procedural and enforcement regulations, and with developing proposed model installation standards. The purpose of this meeting is to initiate the Consensus Committee activities and develop committee procedures.

Tentative Agenda

A. Welcome and Introductions

B. Manufactured Housing Improvement Act of 2000 (Title VI, Pub. L. 106-569, 114 Stat. 2944)

C. Objectives for Administering Organizations's Various Contract Periods

D. HUD Address in Vision and Goals

E. Committee Charter and Federal Advisory Committee Act Procedures

F. ANSI Procedures

G. Committee Procedures and By-Laws

H. Installation Standards

I. Prioritization of Other Work Permitted by the Act

J. Process/Format for Proposed Changes to the Standards and Regulations

K. Scheduling of future meeting(s)

Dated: July 23, 2002.
John C. Weicher,
Assistant Secretary for Housing-Federal Housing Commissioner.

[FR Doc. 02-19118 Filed 7-26-02; 8:45 am]

BILLING CODE 4210-27-M